DEPARTMENT OF LABOR

Employment and Training Administration

[TA-W-61,094]

Pine River Plastics, Inc. Including On-Site Leased Workers from Kelly Services, Manpower and Pinnacle Staffing St. Clair, Michigan; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 23, 2007, applicable to workers of Pine River Plastics, Inc., St. Clair, Michigan. The notice was published in the Federal Register on May 9, 2007 (72 FR 26424).

At the request of a company official, the Department reviewed the certification for workers of the subject firm. The workers were engaged in the production of plastic injection molded parts.

The review of the investigation file shows that the Department inadvertently omitted the leased workers from Kelly Services, Manpower and Pinnacle Staffing who were engaged in employment related to the production on-site at the St. Clair, Michigan location of Pine River Plastics, Inc.

Based on these findings, the Department is amending this certification to include leased workers of Kelly Services, Manpower and Pinnacle Staffing working on-site at Pine River Plastics, Inc., St. Clair, Michigan.

The intent of the Department's certification is to include all workers employed at Pine River Plastics, St. Clair, Michigan who were adversely affected by increased imports.

The amended notice applicable to TA-W-61,094 is hereby issued as follows:

“All workers of Pine River Plastics, Inc., including on-site leased workers of Kelly Services, Manpower and Pinnacle Staffing, St. Clair, Michigan, who became totally or partially separated from employment on or after March 9, 2006, through April 23, 2009, are eligible to apply for adjustment assistance under Section 223 of the Trade Act of 1974, and are also eligible to apply for alternative trade adjustment assistance under Section 246 of the Trade Act of 1974.”

Linda G. Poole,
Certifying Officer, Division of Trade Adjustment Assistance.

[FR Doc. E7-11836 Filed 6-19-07; 8:45 am]

BILLING CODE 4510-FN-P